DEPARTMENT OF THE INTERIOR

Bureau of Reclamation

[RR06781000, 21XR0680A4, RX.02964999.0060000]

Notice To Establish a New Federal Lands Recreation Enhancement Act Site at Canyon Ferry Reservoir, Helena, Montana

AGENCY: Bureau of Reclamation, Interior.

ACTION: Notice of proposed new site; request for comments.

SUMMARY: The Bureau of Reclamation is proposing to designate Canyon Ferry Reservoir as a new site under the Federal Lands Recreation Enhancement Act which will authorize retention of recreation user fees for overnight camping, group use shelters, and special use permits.

DATES: Submit written comments on the new site on or before June 8, 2022. The proposed fee retention at Canyon Ferry Reservoir is scheduled to begin on this date if no substantive comments are received.

ADDRESSES: Send written comments on the proposed new site to Ryan Newman, Area Manager, Montana Area Office, Bureau of Reclamation, 2900 4th Ave. North, Suite 501, Billings, Montana 59101. Public outreach will be performed via website postings at www.usbr.gov/gp/mtao/canyonferry/ and www.usbr.gov/gp/mtao/index.html, as well as advertisements in the local area newspapers.

FOR FURTHER INFORMATION CONTACT: Charles Hueth, Canyon Ferry Field Office Assistant Facility Manager, 7700 Canyon Ferry Road, Helena, MT 59602; email at chueth@usbr.gov, or call (406) 475-3922. Information about the proposed new site and fee retention can also be found on the Bureau of Reclamation, Montana Area Office website at www.usbr.gov/gp/mtao/index.htm, and Canyon Ferry Field Office website at www.usbr.gov/gp/mtao/canyonferry/.

SUPPLEMENTARY INFORMATION: The Federal Lands Recreation Enhancement Act (REA) (16 U.S.C. 6801-6814) directed the Secretary of the Interior to publish a 6-month advance notice in the Federal Register whenever a new REA site is established. The Bureau of Reclamation, Montana Area Office, under the authority of REA, proposes to establish retention of camping, group use shelter, and special use permit recreation user fees at the Canyon Ferry Reservoir. Currently user fees are returned to the U.S. Department of Treasury. Retained fees will be used for the continued operation, maintenance, and improvements of the reservoir area recreation amenities and related public use programs.

Public Disclosure

Before including your address, phone number, email address, or other personal identifying information in your comment, you should be aware that your entire comment—including your personal identifying information—may be made publicly available at any time. While you can ask us in your comment to withhold your personal identifying information from public review, we cannot guarantee that we will be able to do so.

Ryan Newman,
Area Manager, Montana Area Office.

[FR Doc. 2021-26763 Filed 12-9-21; 8:45 am]

BILLING CODE 4332-90-P